DEPARTMENT OF THE INTERIOR

Bureau of Land Management

[LLMTM00000.L111100000.XP0000 16XL1109AF MO#4500091304]

Notice of Public Meeting; Central Montana Resource Advisory Council

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Central Montana Resource Advisory Council (RAC) will meet as indicated below.

DATES: The Central Montana Resource Advisory Council Meeting will be held May 4, 2016 in Havre, Montana. The meeting will begin at 8:00 a.m. to 5:00 p.m., with a 30-minute public comment period at 10:00 a.m.

ADDRESSES: The meetings will be in the Havre Inn and Suites Conference Room at 1425 Highway 2 NW., Havre, Montana.

FOR FURTHER INFORMATION CONTACT: Mark Albers, HiLine & Central Districts Manager, Great Falls Field Office, 1101 15th Street North, Great Falls, MT 59401, (406) 791-7789, malbers@blm.gov. Persons who use a telecommunications device for the deaf (TDD) may call the Federal Information Relay Service (FIRS) at 1-800-677-8339 to contact the above individual during normal business hours. The FIRS is available 24 hours a day, 7 days a week to leave a message or question with the above individual. You will receive a reply during normal business hours.

SUPPLEMENTARY INFORMATION: This 15-member council advises the Secretary of the Interior, through the BLM, on a variety of management issues associated with public land management in Montana. During these meetings the council is scheduled to participate in, discuss, and act upon these topics or activities. All RAC meetings are open to the public.

Each formal RAC meeting will also have time allocated for hearing public comments. Depending on the number of persons wishing to comment and time available, the time for individual oral comments may be limited.

Authority: 43 CFR 1784.4-2.

Mark K. Albers,
HiLine & Central Districts Manager.

[FR Doc. 2016-07043 Filed 3-28-16; 8:45 am]

BILLING CODE 4310-DN-P